DEPARTMENT OF LABOR

Office of the Secretary

Submission for OMB Review; Comment Request

November 27, 2002.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting the Department of Labor. To obtain documentation, contact Darrin King on (202) 693-4129 or E-Mail: King_Darrin@dol.gov.

Comments should be sent to Office of Information and Regulatory Affairs, Attn: OMB Desk Officer for OSHA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration (OSHA).

Title: OSHA Strategic Partnership Program for Worker Safety and Health.

Type of Review: Extension of a currently approved collection.

OMB Number: 1218-0244.

Affected Public: Business or other for-profit; not-for-profit institutions; Federal government; and State, local, or tribal government.

Type of Response: Reporting.

Frequency: On occasion and annually.

Number of Respondents: 4,410.

Annual Responses: 4,410.

Average Response Time: 11 hours.

Annual Burden Hours: 49,254.

Total Annualized Capital/Startup Costs: $0.

Total Annual Costs (operating/maintaining systems or purchasing services): $0.

Description: OSHA requires employers participating in the strategic Partnership Program to assess their impact on worker safety and health. An OSHA Strategic Partnership aspires to have a measurable, positive impact on workplace safety and health that goes beyond what has historically been achievable only through traditional enforcement methods.

Ira L. Mills,
Departmental Clearance Officer.

[FR Doc. 02-30659 Filed 12-3-02; 8:45 am]

BILLING CODE 4510-26-M